DEPARTMENT OF COMMERCE

Submission For OMB Review; Comment Request

DOC has submitted to the Office of Management and Budget (OMB) for clearance the following proposal for collection of information under the provisions of the Paperwork Reduction Act (44 U.S.C. chapter 35).

AGENCY: U.S. Census Bureau.

Title: Boundary and Annexation Survey (BAS).

Form Number(s): BAS 1, BAS 1A, BAS 2, BAS 2A, BAS 2CUO, BAS 3, BAS 3A, BAS 4, BAS 5, BAS 5A, 8 letters, 2 postcards, 12 inserts.

Agency Approval Number: 0607-0151.

Type of Request: Revision of an existing collection.

Burden: 40,986 hours.

Number of Respondents: 13,662.

Avg Hours Per Response: 3 hours.

Needs and Uses: The Census Bureau requests extension of the OMB clearance for the Boundary and Annexation Survey (BAS). The Census Bureau conducts the BAS annually to collect information on the creation of newly incorporated municipalities, minor civil divisions (MCDs), counties, federally recognized American Indian areas (AIAs) which include reservations and/or off-reservation trust lands, and Alaska Native Regional Corporations (ANRCs), the dissolution of incorporated municipalities and MCDs, and changes to the boundaries of counties, incorporated municipalities, MCDs, AIAs, and ANRCs. The BAS information is used to provide an appropriate record for reporting the results of the decennial and economic censuses and the Census 2000 Long Form Transitional Database, to support the annual population estimates program, to update the municipal, MCD, county, AIA, and ANRC inventory for the Federal Information Processing Standards (FIPS) program managed by the U.S. Geological Survey (USGS) for the National Institute of Standards and Technology, and to update the Geographic Names Information System (GNIS) maintained by the USGS.

Affected Public: State, local or Tribal government.

Frequency: Annually.

Respondent's Obligation: Voluntary.

Legal Authority: Title 13 U.S.C., Section 6.

OMB Desk Officer: Susan Schechter, (202) 395-5103.

Copies of the above information collection proposal can be obtained by calling or writing Madeleine Clayton, Departmental Paperwork Clearance Officer, (202)482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: December 3, 2001.
Madeleine Clayton,
Departmental Paperwork Clearance Officer, Office of the Chief Information Officer.

[FR Doc. 01-30295 Filed 12-5-01; 8:45 am]

BILLING CODE 3510-07-P